DEPARTMENT OF THE INTERIOR

Bureau of Land Management

[LLNVS01000 L5105.0000.EA0000 LVRCF0200740 241A 20X MO#4500154369]

Notice of Temporary Closure of Public Lands for the 2021 Rise Lantern Festival in Clark County, Nevada

AGENCY: Bureau of Land Management, Interior.

ACTION: Temporary closure on public lands in Nevada.

SUMMARY: The Las Vegas Field Office announces the temporary closure of certain public lands under its administration in Clark County, Nevada. This temporary closure is being made in the interest of public safety in relation to the authorized 2021 Rise Lantern Festival. This closure controls access to multiple points of entry to the festival located on the Jean Dry Lake Bed in order to minimize the risk of vehicle collisions with festival participants and workers. The temporary closure also ensures adequate time to conduct clean-up of the festival location.

DATES: The temporary closure will go into effect at 12:01 a.m. on October 1, 2021, and will remain in effect until 11:59 p.m. on October 2, 2021.

ADDRESSES: The closure order and map of the closure area will be posted at the Bureau of Land Management (BLM) Las Vegas Field Office, 4701 North Torrey Pines Drive, Las Vegas, Nevada 89130, and on the BLM website: www.blm.gov. These materials will also be posted at the access point of Jean Dry Lake Bed and the surrounding areas.

FOR FURTHER INFORMATION CONTACT: Jenna Giddens, Outdoor Recreation Planner, 702-515-5156, jgiddens@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The Las Vegas Field Office announces the temporary closure of selected public lands under its administration. This action is being taken to help ensure public safety and prevent unnecessary environmental degradation during the official permitted running of the 2021 Rise Lantern Festival. The public lands affected by this closure are described as follows:

Mount Diablo Meridian, Nevada

T. 24 S., R. 60 E.,

secs. 20 and 21, those portions lying easterly and southerly of the easterly and southerly right-of-way boundary of State Route 604; sec. 22; secs. 27 and 28; secs. 29 and 32, those portions lying easterly and southerly of the easterly and southerly right-of-way boundary of State Route 604; secs. 33 and 34.

T. 25 S., R. 60 E.,

sec. 2, W1/2; secs. 3 thru 5; secs. 8 thru 10; sec. 11, W1/2; sec. 14, W1/2; secs. 15 thru 17.

The area described contains approximately 11,200 acres.

Notices will be posted along roads leading into the public lands subject to the closure. The closure area includes the Jean Dry Lake Bed and is bordered by Hidden Valley to the east, Sheep Mountain to the southwest, and the right-of-way boundary of State Route 604. Under the authority of Section 303(a) of the Federal Lands Policy and Management Act of 1976 (43 U.S.C. 1733(a)), 43 CFR 8360.0-7 and 43 CFR 8364.1, the BLM will enforce the following rules in the area described above:

The entire area as listed in the legal description above is closed to all vehicles and personnel except law enforcement, emergency vehicles, event personnel, and ticketed festival participants. No vehicle stopping or parking in the closed area except for designated parking areas will be permitted. Festival participants are required to remain within designated spectator areas only.

The following restrictions will be in effect for the duration of the closure. Unless otherwise authorized, the following activities within the closure area are prohibited:

• Camping.

• Possession and/or consuming any alcoholic beverage unless the person has reached the age of 21 years.

• Discharging, or use of firearms or other weapons.

• Possession and/or discharging of fireworks.

• Allowing any pet or other animal in one's care to be unrestrained at any time. Animals must be on a leash or other restraint no longer than 3 feet.

• Operation of any vehicle including any off-highway vehicle and golf carts within the closure area, except along designated event routes to and from entrance/exit points and parking areas; or designated event vehicles and official vehicles.

• Parking any vehicle in violation of posted restrictions, or in such a manner as to obstruct or impede normal or emergency traffic movement or the parking of other vehicles, create a safety hazard, or endanger any person, property, or feature. Vehicles so parked are subject to citation, removal, and impoundment at the owner's expense.

• Operating a vehicle through, around, or beyond a restrictive sign, recognizable barricade, fence, or traffic control barrier or device.

Signs and maps directing the public to designated spectator areas will be provided by the event sponsor.

Exceptions: Closure restrictions do not apply to BLM employees, contractors, or agents engaged in official duties, any Federal, State, or local officer, member of an organized rescue or firefighting force engaged in fire, emergency, or law enforcement activities, public utility employees engaged in emergency repairs, or vehicles owned by or contracted by the United States, the State of Nevada, or Clark County. The closure restrictions also do not apply to vehicles under permit for operation by event staff, contractors, and festival participants.

Enforcement: Any person who violates this temporary closure may be tried before a United States Magistrate and fined in accordance with 18 U.S.C. 3571, imprisoned no more than 12 months under 43 U.S.C. 1733(a) and 43 CFR 8360.0-7, or both. In accordance with 43 CFR 8365.1-7, State or local officials may also impose penalties for violations of Nevada law.

(Authority: 43 CFR 8360.0-7 and 8364.1)

Shonna Dooman,
Field Manager—Las Vegas Field Office.

[FR Doc. 2021-18663 Filed 8-30-21; 8:45 am]

BILLING CODE 4310-HC-P